DEPARTMENT OF HEALTH AND HUMAN SERVICES

Office of the Secretary

Agency Information Collection Activities: Proposed Collections; Comment Request

The Department of Health and Human Services, Office of the Secretary will periodically publish summaries of proposed information collections projects and solicit public comments in compliance with the requirements of Section 3506(c)(2)(A) of the Paperwork Reduction Act of 1995. To request more information on the project or to obtain a copy of the information collection plans and instruments, call the OS Reports Clearance Officer on (202) 690-6207.

Comments are invited on: (a) Whether the proposed collection of information is necessary for the proper performance of the functions of the agency, including whether the information shall have practical utility; (b) the accuracy of the agency's estimate of the burden of the proposed collection of information; (c) ways to enhance the quality, utility and clarity of the information to be collected; and (d) ways to minimize the burden of the collection of information on respondents, including through the use of automated collection techniques or other forms of information technology.

Proposed Project 1. Voluntary Industry Partner Surveys to Implement Executive Order 12862—Extension—0990-0220—The Department of Health and Human Services plans to conduct surveys of its contractors in each agency to obtain feedback for improving the Department's procurement process. Respondents: Contractors of the Department—Reporting Burden Information—Number of Respondents: 2400; Average Burden per Response: 12 minutes; Total Annual Burden: 480 hours.

Send comments to Cynthia Agens Bauer, OS Reports Clearance Officer, Room 503H, Humphrey Building, 200 Independence Avenue SW., Washington, D.C., 20201. Written comments should be received on or before October 10, 2000.

Dated: July 31, 2000.
Dennis P. Williams,
Deputy Assistant Secretary, Budget.

[FR Doc. 00-20011 Filed 8-7-00; 8:45 am]

BILLING CODE 4150-04-M